DEPARTMENT OF AGRICULTURE

Forest Service

Chequamegon Resource Advisory Committee

AGENCY: Forest Service, USDA.

ACTION: Notice of meeting.

SUMMARY: The Chequamegon Resource Advisory Committee will meet in Park Falls, Wisconsin. The committee is meeting as authorized under the Secure Rural Schools and Community Self-Determination Act (Pub. L. 110-343) and in compliance with the Federal Advisory Committee Act. The purpose is to hold the first meeting of the newly formed committee.

DATES: The meeting will be held on August 11, 2010, and will begin at 10 a.m.

ADDRESSES: The meeting will be held at the Forest Service Park Falls Office, Large Conference Room, 1170 4th Ave., South, Park Falls, WI. Written comments should be sent to Sarah Yoshikane, Chequamegon-Nicolet National Forest, P.O. Box 578, 113 East Bayfield St., Washburn, WI 54891. Comments may also be sent via e-mail to syoshikane@fs.fed.us, or via facsimile to 715-373-2878.

All comments, including names and addresses when provided, are placed in the record and are available for public inspection and copying. The public may inspect comments received at Chequamegon-Nicolet National Forest, 113 East Bayfield St., Washburn, WI 54891. Visitors are encouraged to call ahead to 715-373-2667 to facilitate entry into the building.

FOR FURTHER INFORMATION CONTACT: Sarah Yoshikane, RAC coordinator, USDA, Chequamegon-Nicolet National Forest, 113 East Bayfield St., Washburn, WI 54891; (715) 373-2667; E-mail syoshikane@fs.fed.us.

Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: (1) Introductions of all committee members, replacement members and Forest Service personnel; (2) Receive materials explaining the process for considering and recommending Title II projects; (3) Selection of a chairperson by the committee members; and (4) Public Comment. Persons who wish to bring related matters to the attention of the Committee may file written statements with the Committee staff before or after the meeting.

Dated: July 7, 2010.
Paul I.V. Strong,
Forest Supervisor.

[FR Doc. 2010-17443 Filed 7-16-10; 8:45 am]

BILLING CODE 3410-11-P